DEPARTMENT OF HEALTH AND HUMAN SERVICES

National Institutes of Health

Proposed Collection; 60-Day Comment Request; NIH Office of Intramural Training & Education—Application, Registration, and Alumni Systems, Office of the Director

AGENCY: National Institutes of Health, HHS.

ACTION: Notice.

SUMMARY: In compliance with the requirement of the Paperwork Reduction Act of 1995 to provide opportunity for public comment on proposed data collection projects, the National Institutes of Health Office of Intramural Training & Education (OITE) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Patricia Wagner, Program Analyst, Office of Intramural Training & Education (OITE), Office of Intramural Research (OIR), Office of the Director (OD), National Institutes of Health (NIH); 2 Center Drive: Building 2/Room 2E06; Bethesda, Maryland 20892 or call non-toll-free number 240-476-3619 or Email your request, including your address to: wagnerpa@od.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: NIH Office of Intramural Training & Education—Application, Registration, and Alumni Systems, 0925-0299, 06/30/2019, REVISION, Office of Intramural Training & Education (OITE), Office of Intramural Research (OIR), Office of the Director (OD), National Institutes of Health (NIH).

Need and Use of Information Collection: The Office of Intramural Training & Education (OITE) administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration solicit information including: Personal information, ability to meet eligibility criteria, contact information, university-assigned student identification number, training program selection, scientific discipline interests, educational history, standardized examination scores, reference information, resume components, employment history, employment interests, dissertation research details, letters of recommendation, financial aid history, sensitive data, and travel information, as well as feedback questions about interviews and application submission experiences. Sensitive data collected on the applicants: Race, gender, ethnicity, relatives at NIH, and recruitment method, are made available only to OITE staff members or in aggregate form to select NIH offices and are not used by the admission committees for admission consideration. In addition, information to monitor trainee placement after departure from NIH is periodically collected.

OMB approval is requested for 3 years. There are no costs to respondents other than their time. The total estimated annualized burden hours are 13,297.

Estimated Annualized Burden Hours
Type of respondent | Number of respondents | Number of responses per respondent | Average time/ response (hours) | Total annual burden hours
High School Scientific Training & Enrichment Program—Orientation | 25 | 1 | 10/60 | 4
High School Scientific Training & Enrichment Program 2.0—Orientation | 25 | 1 | 10/60 | 4
HiSTEP & HiSTEP2—Alumni Tracking | 125 | 2 | 30/60 | 125
Summer Internship Program—Application | 8,000 | 1 | 45/60 | 6,000
Summer Internship Program—Recommendation Letters | 16,000 | 1 | 10/60 | 2,667
Amgen Scholars at NIH—Supplemental Application | 535 | 1 | 10/60 | 89
Amgen Scholars at NIH—Feedback | 20 | 1 | 15/60 | 5
Amgen Scholars at NIH—Alumni Tracking | 127 | 1 | 30/60 | 64
Community College Summer Enrichment Program—Alumni Tracking | 158 | 1 | 10/60 | 26
College—Summer Opportunities in Advanced Research—Alumni Tracking | 158 | 1 | 10/60 | 26
Graduate—Summer Opportunities in Advanced Research—Alumni Tracking | 114 | 1 | 30/60 | 57
Graduate Data Science Summer Program—Alumni Tracking | 30 | 1 | 30/60 | 15
Native American Visit Week—Application | 15 | 1 | 20/60 | 5
Native American Visit Week—Recommendation Letters | 15 | 1 | 10/60 | 3
Native American Visit Week—Feedback | 15 | 1 | 15/60 | 4
Undergraduate Scholarship Program—Application | 125 | 1 | 60/60 | 125
Undergraduate Scholarship Program—Recommendation Letters for Applicants | 375 | 1 | 10/60 | 63
Undergraduate Scholarship Program—Exceptional Financial Need—Completed by Applicant | 125 | 1 | 3/60 | 8
Undergraduate Scholarship Program—Exceptional Financial Need—Completed by University Staff | 125 | 1 | 15/60 | 41
Undergraduate Scholarship Program—Exceptional Financial Need Resubmission—Completed by Applicant | 38 | 1 | 3/60 | 8
Undergraduate Scholarship Program—Exceptional Financial Need Resubmission—Completed by University Staff | 38 | 1 | 15/60 | 41
Undergraduate Scholarship Program—Scholar Contract | 25 | 1 | 10/60 | 4
Undergraduate Scholarship Program—Evaluation of Scholar Pay Back Period | 30 | 1 | 15/60 | 8
Undergraduate Scholarship Program—Renewal Application | 15 | 1 | 45/60 | 11
Undergraduate Scholarship Program—Recommendation Letters for Renewals | 15 | 1 | 10/60 | 3
Undergraduate Scholarship Program—Deferment Form—Completed by Scholar | 10 | 1 | 3/60 | 1
Undergraduate Scholarship Program—Deferment Form—Completed by University Staff | 10 | 1 | 12/60 | 2
Postbaccalaureate Training Program—Application | 2,250 | 1 | 45/60 | 1,688
Postbaccalaureate Training Program—Recommendation Letters | 6,750 | 1 | 10/60 | 1,125
NIH Academy—Fellow & Certificate Programs Application | 300 | 1 | 15/60 | 75
NIH Academy—Enrichment Program Application | 175 | 1 | 15/60 | 44
Graduate Partnerships Program—Application | 325 | 1 | 60/60 | 325
Graduate Partnerships Program—Recommendation Letters for Application | 975 | 1 | 10/60 | 163
Graduate Partnerships Program—Interview Experience Survey | 30 | 1 | 10/60 | 5
Graduate Partnerships Program—Registration | 175 | 1 | 15/60 | 44
Graduate Partnerships Program—Awards Certificate | 75 | 1 | 30/60 | 38
MyOITE—User Accounts | 6,000 | 1 | 3/60 | 300
MyOITE—NIH Alumni | 500 | 1 | 15/60 | 125
OITE Careers Blog—Success Stories | 6 | 1 | 45/60 | 5
Totals | 43,854 | 43,979 | N/A | 13,297

Dated: October 29, 2018.
Lawrence A. Tabak,
Deputy Director, National Institutes of Health.

[FR Doc. 2018-24150 Filed 11-2-18; 8:45 am]

BILLING CODE 4140-01-P